DEPARTMENT OF HOMELAND SECURITY

[Docket No. DHS-2013-0005]

Homeland Security Information Network Advisory Committee (HSINAC)

AGENCY: OPS/OCIO, DHS.

ACTION: Committee Management; Notice of Federal Advisory Committee Meeting.

SUMMARY: The Homeland Security Information Network Advisory Committee (HSIN AC) will meet on February 27th-28th, 2013 in Washington, DC. The meeting will be open to the public.

DATES: HSIN AC will meet Wednesday, February 27th, 2013 from 9 a.m. to 5 p.m. and on Thursday, February 28th, 2013 from 9 a.m. to 2 p.m. Please note that the meeting may end early if the committee has completed its business.

ADDRESSES: The meeting will be held at the Ronald Reagan International Trade Center (Ronald Reagan Building), 1300 Pennsylvania Ave. NW., Washington DC 20004. All visitors to the Ronald Reagan International Trade Center are required to show government identification for admittance to the building. In the event of inclement weather affecting the Washington, DC area, creating a delay in the opening of Federal offices, the contingency plan will be to hold the conference via a teleconference call and if possible Adobe Connect session, requesting that all participants and visitors participate virtually. If the Federal government is closed, the meeting will be rescheduled. Please provide your name, telephone number and email by close of business on February 25th, 2013, to the contact person listed in FOR FURTHER INFORMATION CONTACT below. Teleconference lines will be available for this meeting.

For information on facilities or services for individuals with disabilities or to request special assistance at the meeting, contact David Steigman, david.steigman@hq.dhs.gov, 202-357-7809, as soon as possible.

To facilitate public participation, we are inviting public comment on the issues to be considered by the committee as listed in the “Agenda” section below. Comments must be submitted in writing no later than February 20, 2013 and must be identified by docket number: DHS-2013-0005 and may be submitted by one of the following methods:

• Federal eRulemaking Portal: http://www.regulations.gov. Follow the instructions for submitting comments.

• Email: David Steigman, david.steigman@hq.dhs.gov. Include the docket number in the subject line of the message.

• Fax: 202-357-7678.

• Mail: David Steigman, Department of Homeland Security, OPS CIO-D Stop 0426, 245 Murray Lane, SW., BLDG 410, Washington, DC 20528-0426.

Instructions: All submissions received must include the words “Department of Homeland Security” and the docket number for this action. Comments received will be posted without alteration at http://www.regulations.gov, including any personal information provided.

Docket: For access to the docket to read background documents or comments received by the (Homeland Security Information Network Advisory Committee), go to http://www.regulations.gov.

Short public comment periods will be held during the meeting following presentations. Those providing comments are requested to limit their comments to 3 minutes. Please note that the public comment period may end before the time indicated, following the last call for comments. Contact the individual listed below to register as a speaker. Documents will be distributed to the committee members during the meeting and made available to the public on February 27, 2013 on the Federal Register Web site at: https://www.federalregister.gov/agencies/homeland-security-department. These documents will be formatted in the Microsoft Suite software applications.

FOR FURTHER INFORMATION CONTACT: Designated Federal Officer, David Steigman, david.steigman@hq.dhs.gov, Phone: 202-357-7809, Fax: 202-357-7678, or Alternate Designated Federal Officer, Sarah Schwettman, sarah.schwettman@hq.dhs.gov, Phone: 202-357-7882.

SUPPLEMENTARY INFORMATION: Notice of this meeting is given under the Federal Advisory Committee Act, 5 U.S.C. App. (Pub. L. 92-463).

The HSINAC provides advice and recommendations to the U.S. Department of Homeland Security (DHS) on matters relating to HSIN. These matters include system requirements, operating policies, community organization, knowledge management, interoperability and federation with other systems, and any other aspect of HSIN that supports the operations of DHS and its Federal, State, territorial, local, tribal, international, and private sector mission partners. The HSINAC provides independent advice and recommendations to the leadership of DHS regarding HSIN. The duties of the HSINAC are solely advisory in nature.

The HSINAC will meet to review, discuss and make recommendations on key messaging to stakeholder community showcasing the vision of HSIN and its progressive development efforts.

Agenda

1. Opening and introductions

2. Federal Advisory Committee Act 101; Ethics

3. Discuss the revised HSINAC Charter.

4. How Far We've Come: Provide an update on HSIN program status since the August 2010 HSIN AC Meeting, including the OMB TechStat Review and HSIN Business Case.

5. The HSIN Release 3 Value Proposition: The development of the revised program upgrade known as HSIN Release 3 and a review of related program technology.

6. HSIN's Alignment to the National Information Sharing and Safeguarding Strategy and how HSIN aligns to the Federal Information Sharing Environment.

7. How We've Acted on Your Recommendations: Provide a review of updates across the HSIN Work Streams the Analysis of Alternatives, HSIN Business Case, and the Tech Stat Review and how those program reviews led to the decision to proceed with HSIN Release 3.

8. Respectfully request the development of recommendations for submission to the HSIN Program Management Office and DHS leadership going forward. The HSIN Program Management Office seeks guidance on HSIN Release 3's identity proofing process, communication messaging and training guidance on the suggested topics of identity proofing, migration, two-factor authentication, federated users and community of interest (COI) charter implementation.

Dated: January 28, 2013.
James Lanoue,
HSIN Acting Program Manager.

[FR Doc. 2013-02344 Filed 2-1-13; 8:45 am]

BILLING CODE 9110-9B-P